DEPARTMENT OF JUSTICE

Notice of Lodging of Proposed Consent Decree Under the Clean Air Act

On October 28, 2013, the Department of Justice lodged a proposed Consent Decree with the United States District Court for the Southern District of West Virginia in the lawsuit captioned United States and State of West Virginia v. E. I. du Pont de Nemours and Company, Civil Action No. 6:13-cv-27030.

E. I. du Pont de Nemours and Company (“DuPont”) owns and operates a chemical manufacturing facility located in Washington, West Virginia (“Washington Works Facility”). In the Complaint, filed on October 28, 2013, on behalf of the Environmental Protection Agency (“EPA”), the United States and the State of West Virginia, on behalf of the West Virginia Department of Environmental Protection, allege that DuPont violated the Clean Air Act by failing to comply with the leak detection and repair regulations (“LDAR”) established at 40 CFR Part 63. The Complaint also alleges the DuPont violated the LDAR requirements contained in its Clean Air Act Title V permit and the LDAR standards for hazardous air pollutants promulgated in the West Virginia Code of State Rules, Title 45, Section 34.

The proposed Consent Decree, lodged with the Court on October 28, 2013, resolves the allegations in the Complaint and requires DuPont to implement injunctive relief at its Washington Works Facility. The terms of the Consent Decree require DuPont to perform a preliminary audit of its LDAR equipment, to prepare a comprehensive training program and train personnel in LDAR compliance, and to implement an enhanced LDAR program that includes requirements above and beyond those of the applicable LDAR regulations. The Consent Decree also requires DuPont to pay a civil penalty of $800,000, divided evenly between the United States and West Virginia. The amount of the civil penalty is based on the EPA Clean Air Act Stationary Source Civil Penalty Policy.

The publication of this notice opens a period for public comment on the proposed Consent Decree. Comments should be addressed to the Assistant Attorney General, Environment and Natural Resources Division, and should refer to United States and State of West Virginia v. E. I. du Pont de Nemours and Company, D.J. Ref. No. 90-5-2-1-09610. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: http://www.usdoj.gov/enrd/Consent_Decrees.html. We will provide a paper copy of the proposed Consent Decree upon written request and payment of reproduction costs. Please mail your request and payment to: Consent Decree Library, U.S. DOJ—ENRD, P.O. Box 7611, Washington, DC 20044-7611.

Please enclose a check or money order for $13.25 (25 cents per page reproduction cost) without the Consent Decree attachments or $27.00 with the attachments, payable to the United States Treasury.

Robert Brook,
Assistant Section Chief, Environmental Enforcement Section, Environment and Natural Resources Division.

[FR Doc. 2013-26117 Filed 10-31-13; 8:45 am]

BILLING CODE 4410-15-P